FEDERAL COMMUNICATIONS COMMISSION

47 CFR Part 73

[DA 02-1153; MM Docket No. 00-245; RM-9971, 10185, 10186]

Radio Broadcasting Services; Alberta and Dinwiddie, VA and Whitakers and Garysburg, NC

AGENCY: Federal Communications Commission.

ACTION: Final rule.

SUMMARY: In response to a Notice of Proposed Rule Making, 65 FR 79327 (December 19, 2000), this document allots Channel 276A to Garysburg, North Carolina as its first local aural transmission service, substitutes Channel 299A for Channel 276A at Alberta, Virginia, and modifies Station WSMY-FM's authorization accordingly. This document denies a request by Dinwiddie Radio Company that Channel 299A be allotted to Dinwiddie, Virginia and that Channel 276A be retained at Alberta. This document also denies a request by Station WSMY-FM to substitute Channel. 276C3 for Channel 276A at Alberta, Virginia, and to reallot Channel 276C3 from Alberta, Virginia to Whitakers, North Carolina. The coordinates for Channel 276A at Garysburg, North Carolina are 36-26-30 North Latitude and 77-35-00 West Longitude.

DATES: Effective July 8, 2002.

FOR FURTHER INFORMATION CONTACT: R. Barthen Gorman, Media Bureau, (202) 418-2180.

SUPPLEMENTARY INFORMATION: This is a synopsis of the Commission's Report and Order, MM Docket No. 00-245, adopted May 8, 2002, and released May 17, 2002. The full text of this Commission decision is available for inspection and copying during normal business hours in the FCC's Reference Information Center at Portals II, CY-A257, 445 12th Street, SW, Washington, DC. This document may also be purchased from the Commission's duplicating contractors, Qualex International, Portals II, 445 12th Street, SW, Room CY-B402, Washington, DC, 20554, telephone 202-863-2893, facsimile 202-863-2898, or via e-mail: qualexint@aol.com.

List of Subjects in 47 CFR Part 73

Radio broadcasting.

Part 73 of Title 47 of the Code of Federal Regulations is amended as follows:

PART 73—RADIO BROADCAST SERVICES

1. The authority citation for part 73 reads as follows:

Authority: 47 U.S.C. 154, 303, 334 and 336.

§ 73.202 [Amended]

2. Section 73.202(b), the Table of FM Allotments under North Carolina, is amended by adding Garysburg, Channel 276A.

3. Section 73.202(b), the Table of FM Allotments under Virginia, is amended by adding Channel 299A at Alberta and removing Channel 276A at Alberta.

Federal Communications Commission.
John A. Karousos,
Assistant Chief, Audio Division, Office of Broadcast License Policy, Media Bureau.

[FR Doc. 02-14653 Filed 6-10-02; 8:45 am]

BILLING CODE 6712-01-P